DEPARTMENT OF THE INTERIOR

Bureau of Land Management

[LLWYD04000-LL51010000-ER0000-LVRWK14K1600]

Notice of Intent To Prepare an Environmental Impact Statement for the Proposed Riley Ridge to Natrona Project, Wyoming

AGENCY: Bureau of Land Management, Interior.

ACTION: Notice of Intent.

SUMMARY: In compliance with the National Environmental Policy Act of 1969 (NEPA), as amended, and the Mineral Leasing Act of 1920 (MLA), as amended, the Bureau of Land Management (BLM) Rock Springs Field Office intends to prepare an Environmental Impact Statement (EIS) for the proposed Riley Ridge to Natrona Project and by this notice announces the beginning of the scoping process to solicit public comments and identify issues that will influence the scope of the environmental analysis, including alternatives.

DATES: Comments may be submitted in writing until July 9, 2014. Four public scoping meetings for the proposed project will be held in Big Piney, Rock Springs, Lander and Casper, Wyoming. Meeting times and locations will be announced through local media and the BLM project Web site at www.blm.gov/wy/st/en/info/NEPA/documents/rsfo/rrnp.html at least 15 days prior to the event. In order to be considered in the analysis, all comments must be received prior to the close of the scoping period or 15 days after the last public meeting, whichever is later.

The BLM will provide additional opportunities for public participation upon publication of the draft EIS.

ADDRESSES: Written comments on issues and planning criteria may be submitted by any of the following methods:

Email: BLM_WY_RRNP@blm.gov

Fax: 307-352-0329

Mail or Delivery: BLM High Desert District, Attn: Jim Stobaugh, BLM National Project Manager, Riley Ridge to Natrona Project, 280 Highway 191 North, Rock Springs, WY 82901

FOR FURTHER INFORMATION CONTACT: Jim Stobaugh, BLM National Project Manager, at:

• Telephone: 775-861-6478.

• Email: jstobaugh@blm.gov.

Persons who use a telecommunications device for the deaf (TDD) may call the Federal Information Relay Service (FIRS) at 1-800-877-8339 to speak with Mr. Stobaugh during normal business hours. The FIRS is available 24 hours a day, 7 days a week, to leave a message or question for the above individual. You will receive a reply during normal business hours.

SUPPLEMENTARY INFORMATION: A proposal has been submitted to the BLM to construct, operate, maintain and eventually decommission and reclaim the Riley Ridge to Natrona Project, which consists of two separate right-of-way (ROW) applications: (1) the Riley Ridge Carbon Dioxide (CO2) Pipeline and sweetening plant (WYW-167867); and (2) the Bairoil to Natrona CO2 Pipeline (WYW-168290). Applications for permit to drill will be submitted for two hydrogen sulfide (H2S) injection wells associated with the sweetening plant.

The Riley Ridge pipeline segment includes 31 miles of 16-inch pipeline transporting liquid H2S and CO2 from the existing Riley Ridge Treating Plant located 18 miles southwest of Big Piney, Wyoming, southeast to a proposed sweetening plant, a 4.2-acre facility to be located 12 miles northeast of LaBarge, Wyoming, on BLM-administered lands. From the sweetening plant, a 24-inch pipeline would transport liquid CO2 approximately 129 miles east through Sublette County, southeast through northern Sweetwater County, Bush Rim and the Red Desert, and then northeast to the Bairoil Interconnect, located about 50 miles northwest of Rawlins, Wyoming. The proposed H2S injection wells would be located adjacent to the proposed sweetening plant where liquid H2S would be separated from the CO2 stream and injected into a deep geological formation via the injection wells.

The Bairoil to Natrona pipeline segment includes 83 miles of 24-inch pipeline transporting liquid CO2 from the Bairoil Interconnect northeast through Fremont and Natrona counties to connect to the existing Greencore CO2 Pipeline at the Natrona Hub, located approximately 30 miles west of Casper, Wyoming.

The goals and objectives are to transport liquid CO2 to the existing Greencore CO2 Pipeline to supplement existing supplies, allowing for additional enhanced oil recovery at existing and planned oil fields in Montana and other oil production areas served by the pipeline.

A 75-foot-wide ROW for construction and a permanent 50-foot-wide ROW for operation and maintenance are proposed for the 16-inch H2S/CO2 pipeline segment. A 100-foot-wide ROW for construction and a permanent 50-foot-wide ROW for operation and maintenance are proposed for the 24-inch CO2 pipeline segments.

The following lands in Fremont, Sublette, Sweetwater and Natrona counties, Wyoming, are included in the project description:

Sixth Principal Meridian

T. 35 N., R. 85 W.,

Sec. 24, NE¼NE¼, SE¼NE¼, and NE¼SE¼.

T. 34 N., R. 85 W.,

Sec. 2, NE¼SE¼, NW¼SE¼, and SW¼SE¼;

Sec. 28, SE¼SW¼ and SW¼SW¼;

Sec. 29, SE¼SE¼, SW¼SE¼, SE¼SW¼, and SW¼SW¼;

Sec. 30, lot 4, SE¼SE¼, SW¼SE¼, and SE¼SW¼.

T. 34 N., R. 86 W.,

Sec. 28, NE¼SW¼ and NW¼SW¼;

Sec. 29, NE¼SE¼, NW¼SE¼, SE¼SW¼, and SW¼SW¼;

Sec. 30, SE¼SE¼, SW¼SE¼, and NW¼SE¼.

T. 34 N., R. 87 W.,

Sec. 25, NE¼SE¼, NW¼SE¼, NE¼SW¼, and NW¼SW¼;

Sec. 27, NE¼SE¼, NE¼SW¼, and SW¼NW¼;

Sec. 30, lot 2.

T. 34 N., R. 88 W.,

Sec. 25, NW¼SE¼;

Sec. 31, lots 1, 5, and 6.

T. 34 N., R. 89 W.,

Sec. 35, NE¼SW¼ and NW¼SW¼;

Sec. 34, NE¼SE¼, NW¼SE¼, NE¼SW¼, and NW¼SW¼;

Sec. 33, NE¼SE¼ and NW¼SW¼;

Sec. 31, lot 3, NE¼SE¼, NW¼SE¼, and NE¼SW¼.

T. 34 N., R. 90 W.,

Sec. 35, SE¼SE¼, SW¼SE¼, SE¼SW¼, and SW¼SW¼;

Sec. 34, SW¼SW¼.

T. 33 N., R. 90 W.,

Sec. 3, lot 4;

Sec. 4, lot 1, SE¼NE¼, NE¼SE¼, NW¼SE¼, and NE¼SW¼;

Sec. 5, SE¼SE¼;

Sec. 8, NE¼NE¼, NW¼NE¼, SW¼NE¼, NW¼SE¼, NE¼SW¼, SE¼SW¼, and SW¼SW¼;

Sec. 17, NW¼NW¼;

Sec. 18, NE¼NE¼, SE¼NE¼, SW¼NE¼, NW¼SE¼, and SW¼SE¼;

Sec. 19, NW¼NE¼, SW¼NE¼, NW¼SE¼, and SW¼SE¼;

Sec. 30, NW¼NE¼, NE¼NW¼, SE¼NW¼, NE¼SW¼, and SE¼SW¼;

Sec. 31, NE¼NW¼, SE¼NW¼, NE¼SW¼, and SE¼SW¼.

T. 32 N., R. 91 W.,

Sec. 1, lots 2 and 3, SE¼NW¼, SW¼NW¼, NW¼SW¼, and SW¼SW¼;

Sec. 12, NW¼NW¼, SW¼NW¼, and NW¼SW¼;

Sec. 11, NW¼SE¼, NE¼SW¼, and SE¼SW¼;

Sec. 14, NE¼NW¼, NW¼NW¼, and SW¼NW¼;

Sec. 15, SE¼NE¼, NE¼SE¼, NW¼SE¼, SW¼SE¼, and SE¼SW¼;

Sec. 22, NE¼NW¼, SE¼NW¼, SW¼NW¼, NW¼SW¼, and SW¼SW¼;

Sec. 28, NE¼NE¼, NW¼NE¼, SW¼NE¼, NW¼SE¼, NE¼SW¼, and SE¼SW¼;

Sec. 33, NE¼NW¼, NW¼NW¼, and SW¼NW¼;

Sec. 32, SE¼NE¼, NE¼SE¼, NW¼SE¼, and SW¼SE¼.

T. 31 N., R. 91 W.,

Sec. 5, lot 2, SW¼NE¼, SE¼NW¼, NE¼SW¼, NW¼SE¼, SW¼SE¼, and SE¼SW¼;

Sec. 8, NE¼NW¼, SE¼NW¼, NE¼SW¼, SE¼SW¼, and SW¼SW¼;

Sec. 17, NW¼NW¼, SW¼NW¼, NW¼SW¼, and SW¼SW¼;

Sec. 18, SE¼SE¼;

Sec. 19, NE¼NE¼, SE¼NE¼, NE¼SE¼, SE¼SE¼, and SW¼SE¼;

Sec. 30, NW¼NE¼, SW¼NE¼, NW¼SE¼, SW¼SE¼, and SE¼SW¼;

Sec. 31, lots 3 and 4, NE¼NW¼, SE¼NW¼, and NE¼SW¼.

T. 30 N., R. 91 W.,

Sec. 6, lot 4 and lot 5.

T. 30 N., R. 92 W.,

Sec. 1, SE¼NE¼, NE¼SE¼, and SE¼SE¼;

Sec. 12, NE¼NE¼, SE¼NE¼, SW¼NE¼, NW¼SE¼, and SW¼SE¼;

Sec. 13, NW¼NE¼, SW¼NE¼, SE¼NW¼, NE¼SW¼, and SE¼SW¼;

Sec. 24, NE¼NW¼, SE¼NW¼, SW¼NW¼, NW¼SW¼, and SW¼SW¼;

Sec. 25, NW¼NW¼ and SW¼NW¼;

Sec. 26, SE¼SW¼;

Sec. 35, NE¼NW¼, NW¼NW¼, and SW¼NW¼;

Sec. 34, SE¼NE¼ and NE¼SE¼.

T. 29 N., R. 92 W.,

Sec. 22, NW¼NE¼ and SW¼NE¼;

Sec. 27, NE¼NW¼, NW¼NW¼, and SW¼NW¼.

T. 28 N., R. 92 W.,

Sec. 32, NE¼SW¼, NW¼SE¼, SW¼SE¼, and SE¼SE¼;

Sec. 33, SW¼SW¼.

T. 27 N., R. 92 W.,

Sec. 4, lots 3 and 4, SW¼NW¼, NW¼SW¼, and SW¼SW¼;

Sec. 9, NW¼NW¼ and SW¼NW¼;

Sec. 8, SE¼NE¼, NE¼SE¼, NW¼SE¼, and SW¼SE¼;

Sec. 17, NE¼NW¼ and NW¼NW¼;

Sec. 18, lots 3 and 4, NE¼NE¼, SE¼NE¼, SW¼NE¼, SE¼NW¼, and NE¼SW¼.

T. 27 N., R. 93 W.,

Sec. 13, SE¼SE¼, SW¼SE¼, SE¼SW¼, and SW¼SW¼;

Sec. 14, SE¼SE¼;

Sec. 23, NE¼NE¼, NW¼NE¼, NE¼NW¼, and NW¼NW¼;

Sec. 22, NE¼NE¼, SE¼NE¼, SW¼NE¼, NE¼SW¼, and NW¼SW¼,

Sec. 21, NE¼SE¼, SE¼SE¼, and SW¼SE¼;

Sec. 28, NW¼NE¼, NE¼NW¼, SE¼NW¼, and SW¼NW¼;

Sec. 29, SE¼NE¼, NE¼SE¼, NW¼SE¼, and SW¼SE¼;

Sec. 32, NE¼NE¼, NW¼NE¼, SW¼NE¼, SE¼NW¼, SW¼NW¼, and NW¼SW¼;

Sec. 31, NE¼SE¼, SE¼SE¼, and SW¼SE¼.

T. 26 N., R. 93 W.,

Sec. 6, lots 2, 3, 4, and 5.

T. 26 N., R. 94 W.,

Sec. 1, SE¼NE¼, NE¼SE¼, NW¼SE¼, SW¼SE¼, SE¼SW¼ and SW¼SW¼;

Sec. 12, NW¼NW¼;

Sec. 11, NE¼NE¼, NW¼NE¼, NE¼NW¼, SE¼NW¼, and SW¼NW¼;

Sec. 10, SE¼NE¼, SW¼NE¼, NW¼SE¼, NE¼SW¼, NW¼SW¼, and SW¼SW¼;

Sec. 9, SE¼SE¼, SW¼SE¼, and SE¼SW¼;

Sec. 17, NE¼NE¼, NW¼NE¼, SW¼NE¼, SE¼NW¼, SW¼NW¼;

Sec. 18, SE¼NE¼, NE¼SE¼, and NW¼SE¼.

T. 26 N., R. 95 W.,

Sec. 13, SE¼SE¼ and SW¼SE¼;

Sec. 24, NW¼NE¼, NE¼NW¼, and NW¼NW¼;

Sec. 23, NE¼NE¼, NW¼NE¼, SW¼NE¼, SE¼NW¼, NE¼SW¼, NW¼SW¼, and SW¼SW¼;

Sec. 22, SE¼SE¼;

Sec. 27, NE¼NE¼, NW¼NE¼, SW¼NE¼, SE¼NW¼, SW¼NW¼, and NW¼NW¼;

Sec. 28, NE¼NE¼, SE¼NE¼, SW¼NE¼, SE¼NW¼, NE¼SW¼, and NW¼SW¼;

Sec. 29, NE¼SE¼, NW¼SE¼, SW¼SE¼, SE¼SW¼, and SW¼SW¼;

Sec. 32, NW¼NW¼;

Sec. 31, lots 2 and 3, NE¼NE¼, NW¼NE¼, SW¼NE¼, and SE¼NW¼.

T. 25 N., R. 96 W.,

Sec. 1, lot 4;

Sec. 2, lots 1 and 2, SW¼NE¼, SE¼NW¼, SW¼NW¼, and NW¼SW¼;

Sec. 3, NE¼SE¼, NW¼SE¼, SW¼SE¼, SE¼SW¼, and SW¼SW¼;

Sec. 10, NW¼NW¼;

Sec. 9, NE¼NE¼, NW¼NE¼, SW¼NE¼, SE¼NW¼, NE¼SW¼, and NW¼SW¼;

Sec. 8, NE¼SE¼, SE¼SE¼, SW¼SE¼, and SE¼SW¼;

Sec. 17, NE¼NW¼, NW¼NW¼, and SW¼NW¼;

Sec. 18, lots 4, 5, and 6, SE¼NE¼, SW¼NE¼, and NW¼SE¼.

T. 25 N., R. 97 W.,

Sec. 13, SE¼SE¼;

Sec. 24, NE¼NE¼, NW¼NE¼, NE¼NW¼, SE¼NW¼, and SW¼NW¼;

Sec. 23, SE¼NE¼, NE¼SE¼, NW¼SE¼, NE¼SW¼, SE¼SW¼, and SW¼SW¼;

Sec. 22, SE¼SE¼;

Sec. 27, NE¼NE¼, NW¼NE¼, NE¼NW¼, SE¼NW¼, and SW¼NW¼;

Sec. 28, SE¼NE¼, NE¼SE¼, NW¼SE¼, NE¼SW¼, SE¼SW¼, and SW¼SW¼;

Sec. 29, SE¼SE¼;

Sec. 32, NE¼NE¼, NW¼NE¼, NE¼NW¼, SE¼NW¼, and SW¼NW¼;

Sec. 31, lot 4, SE¼NE¼, NE¼SE¼, NW¼SE¼, NE¼SW¼, and SE¼SW¼.

T. 24 N., R. 98 W.,

Sec. 2, lots 6, 7, and 8, and SW¼NW¼;

Sec. 3, SE¼NE¼, NE¼SE¼, NW¼SE¼, SW¼SE¼, SE¼SW¼, and SW¼SW¼;

Sec. 10, NW¼NW¼;

Sec. 9, NE¼NE¼, NW¼NE¼, SW¼NE¼, SE¼NW¼, NE¼SW¼, and NW¼SW¼;

Sec. 8, NE¼SE¼, SE¼SE¼, and SW¼SE¼;

Sec. 17, NW¼NE¼, NE¼NW¼, NW¼NW¼, and SW¼NW¼;

Sec. 18, lot 8, SE¼NE¼, SW¼NE¼, NW¼SE¼, NE¼SW¼, and SE¼SW¼.

T. 24 N., R. 99 W.,

Sec. 13, SE¼SE¼, SW¼SE¼, SE¼SW¼, NE¼SW¼, and NW¼SW¼;

Sec. 24, NE¼NE¼;

Sec. 14, NE¼SE¼, NW¼SE¼, SW¼NE¼, SE¼NW¼, NE¼NW¼, and NW¼NW¼;

Sec. 15, NE¼NE¼ and NW¼NE¼;

Sec. 10, SW¼SE¼, SE¼SW¼, and SW¼SW¼;

Sec. 9, lots 4, 3, and 2, NE¼SW¼, SE¼NW¼, and SW¼NW¼;

Sec. 8, lot 1, SE¼NE¼, and NE¼NE¼;

Sec. 5, lots 10 and 8, NW¼SE¼, NE¼SW¼, SE¼NW¼, and SW¼NW¼;

Sec. 6, lots 8, 9, and 10.

T. 25 N., R. 99 W.,

Sec. 32, SE¼SE¼, NE¼SE¼, NW¼SE¼, NE¼SW¼, SE¼SW¼, and SW¼SW¼;

Sec. 31, lot 4, SE¼SE¼, SW¼SE¼, and SE¼SW¼.

T. 25 N., R. 100 W.,

Sec. 35, SE¼SE¼, SW¼SE¼, SE¼SW¼, and SW¼SW¼;

Sec. 34, SE¼SE¼ and SW¼SE¼.

T. 24 N., R. 100 W.,

Sec. 4, lots 7 and 8, and SW¼NW¼;

Sec. 5, SE¼NE¼, SW¼NE¼, NW¼SE¼, NE¼SW¼, NW¼SW¼, and SW¼SW¼;

Sec. 6, lot 12, SE¼SE¼, NE¼SE¼, NW¼SE¼, NE¼SW¼, and SE¼NW¼.

T. 24 N., R. 101 W.,

Sec. 1, lots 5, 6, and 7, and SE¼NE¼.

T. 25 N., R. 100 W.,

Sec. 31, lot 3, SE¼SE¼, SW¼SE¼, SE¼SW¼, and NE¼SW¼.

T. 25 N., R. 101 W.,

Sec. 25, SW¼SW¼;

Sec. 26, SE¼SE¼, NE¼SE¼, SE¼NE¼, SW¼NE¼, NW¼NE¼, and NE¼NW¼;

Sec. 23, SE¼SW¼, NE¼SW¼, NW¼SW¼, and SW¼NW¼;

Sec. 22, SE¼NE¼, NE¼SE¼, NW¼SE¼, NE¼SW¼, NW¼SW¼, and SW¼NW¼;

Sec. 21, SE¼NE¼, SW¼NE¼, SE¼NW¼, and SW¼NW¼;

Sec. 20, SE¼NE¼, NE¼NE¼, NW¼NE¼, NE¼NW¼, SE¼NW¼, and SW¼NW¼;

Sec. 19, lot 2, SE¼NE¼, SW¼NE¼, and SE¼NW¼.

T. 25 N., R. 102 W.,

Sec. 24, SE¼NE¼, SW¼NE¼, SE¼NW¼, and SW¼NW¼;

Sec. 23, SE¼NE¼, SW¼NE¼, SE¼NW¼, NE¼NW¼, and NW¼NW¼;

Sec. 22, NE¼NE¼;

Sec. 15, lots 4, 3, and 2, NE¼SW¼, and NW¼SW¼;

Sec. 17, NE¼NE¼, NW¼NE¼, NE¼NW¼, and NW¼NW¼;

Sec. 8, SW¼SW¼;

Sec. 7, SE¼SE¼, SW¼SE¼, SE¼SW¼, NE¼SW¼, SE¼NW¼, SW¼NE¼, and NW¼NE¼;

Sec. 6, lots 6 and 7, SW¼SE¼, and SE¼SW¼.

T. 25 N., R. 103 W.,

Sec. 1, NE¼SE¼, NW¼SE¼, NE¼SW¼, and NW¼SW¼;

Sec. 2, NE¼SE¼, SE¼NE¼, SW¼NE¼, SE¼NW¼, and SW¼NW¼;

Sec. 3, lots 2, 3, and 4, SE¼NE¼, SW¼NE¼, and SW¼NW¼;

Sec. 4, SE¼NE¼, SW¼NE¼, SE¼NW¼, and SW¼NW¼;

Sec. 5, SE¼NE¼, SW¼NE¼, SE¼NW¼, and SW¼NW¼;

Sec. 6, lots 2 and 3, SE¼NE¼ and SW¼NE¼.

T. 26 N., R. 103 W.,

Sec. 31, lots 1, 2, and 3, SE¼SW¼, and NE¼SW¼.

T. 26 N., R. 104 W.,

Sec. 25, SE¼SW¼ and SW¼SW¼;

Sec. 35, NE¼NE¼, NW¼NE¼, NE¼NW¼, and NW¼NW¼;

Sec. 26, SW¼SE¼;

Sec. 34, NE¼NE¼, NW¼NE¼, and NE¼NW¼;

Sec. 27, SE¼SW¼, SW¼SW¼, NE¼SW¼, and NW¼SW¼;

Sec. 28, NE¼SE¼, NW¼SE¼, NE¼SW¼, and NW¼SW¼;

Sec. 29, NE¼SE¼, NW¼SE¼, SW¼NE¼, SE¼NW¼, NE¼NW¼, and NW¼NW¼;

Sec. 20, SW¼SW¼;

Sec. 19, lots 1 and 2, SE¼SE¼, SW¼SE¼, NW¼SE¼, NE¼SW¼, and SE¼NW¼.

T. 26 N., R. 105 W.,

Sec. 24, NE¼NE¼;

Sec. 13, SE¼SE¼, SW¼SE¼, NW¼SE¼, NE¼SW¼, SE¼NW¼, SW¼NW¼, and NW¼NW¼;

Sec. 14, NE¼NE¼;

Sec. 11, SE¼SE¼, SW¼SE¼, NW¼SE¼, SW¼NE¼, and NW¼NW¼;

Sec. 2, SW¼SW¼;

Sec. 3, lot 4, SE¼SE¼, NE¼SE¼, NW¼SE¼, NE¼SW¼, SE¼NW¼, and SW¼NW¼;

Sec. 4, lot 1.

T. 27 N., R. 105 W.,

Sec. 33, SE¼SE¼, NE¼SE¼, NW¼SE¼, NE¼SW¼, SE¼NW¼, SW¼NW¼, and NW¼NW¼;

Sec. 32, NE¼NE¼;

Sec. 29, SE¼SE¼, SW¼SE¼, NW¼SE¼, NE¼SW¼, SE¼NW¼, SW¼NW¼, and NW¼NW¼;

Sec. 30, NE¼NE¼;

Sec. 19, lot 1, SE¼SE¼, SW¼SE¼, NW¼SE¼, SW¼NE¼, SE¼NW¼, and NE¼NW¼.

T. 27 N., R. 106 W.,

Sec. 24, NE¼NE¼;

Sec. 13, SE¼SE¼, SW¼SE¼, NW¼SE¼, NE¼SW¼, SE¼NW¼, NE¼NW¼, and NW¼NW¼;

Sec. 12, SW¼SW¼;

Sec. 11, SE¼SE¼, NE¼SE¼, NW¼SE¼, SW¼NE¼, SE¼NW¼, NE¼NW¼, and NW¼NW¼;

Sec. 2, SW¼SW¼;

Sec. 3, SE¼SE¼, SW¼SE¼, SE¼SW¼, NE¼SW¼, and NW¼SW¼;

Sec. 4, NE¼SE¼, NW¼SE¼, NE¼SW¼, and NW¼SW¼;

Sec. 5, NE¼SE¼, NW¼SE¼, NE¼SW¼, and NW¼SW¼;

Sec. 6, NE¼SE¼, SE¼SE¼, and SW¼SE¼;

Sec. 7, lot 1, NW¼NE¼, and NE¼NW¼.

T. 27 N., R. 107 W.,

Sec. 12, SW¼NE¼, SE¼NW¼, and SW¼NW¼;

Sec. 11, SE¼NE¼, SW¼NE¼, SE¼NW¼, NE¼SW¼, and NW¼SW¼;

Sec. 10, NE¼SE¼, NW¼SE¼, NE¼SW¼, NW¼SW¼, and SW¼NW¼;

Sec. 9, SE¼NE¼, SW¼NE¼, SE¼NW¼, and SW¼NW¼;

Sec. 8, SE¼NE¼, SW¼NE¼, SE¼NW¼, and SW¼NW¼;

Sec. 7, lot 2, SE¼NE¼, SW¼NE¼, and SE¼NW¼.

T. 27 N., R. 108 W.,

Sec. 12, lots 8, 7, 6, and 5;

Sec. 11, lots 8, 7, 6, and 5;

Sec. 10, lots 8, 7, 6, and 5;

Sec. 9, lots 8, 1, 2, and 3;

Sec. 4, lots 18 and 17;

Sec. 5, lots 20, 13, 14, 15 and 16;

Sec. 6, lots 16, 15, 14, 13, and 12.

T. 27 N., R. 109 W.,

Sec. 1, lot 4, SE¼NE¼, SW¼NE¼, SE¼NW¼, and SW¼NW¼;

Sec. 2, lots 1, 2, 3, and 4;

Sec. 3, lots 1, 2, 3, and 4;

Sec. 4, lots 1, 2, 3, and 4;

Sec. 5, lots 1, 2, 3, and 4;

Sec. 6, lots 1, 2, 3, and 4.

T. 27 N., R. 110 W.,

Sec. 1, lot 1, SE¼NE¼, SW¼NE¼, SE¼NW¼, and SW¼NW¼;

Sec. 2, SE¼NE¼, SW¼NE¼, SE¼NW¼, NE¼SW¼, and NW¼SW¼;

Sec. 3, NE¼SE¼, NW¼SE¼, NE¼SW¼, and NW¼SW¼;

Sec. 4, NE¼SE¼, NW¼SE¼, NE¼SW¼, and NW¼SW¼;

Sec. 5, NE¼SE¼, SE¼SE¼, SW¼SE¼, SE¼SW¼, and SW¼SW¼;

Sec. 6, lots 5, 6, and 7, SE¼SE¼, SW¼SE¼, and SE¼SW¼.

T. 27 N., R. 111 W.,

Sec. 1, SE¼NE¼, SW¼NE¼, NW¼SE¼, SW¼SE¼, SE¼SW¼, and SW¼SW¼;

Sec. 2, SE¼SE¼, SW¼SE¼, SE¼SW¼, and SW¼SW¼;

Sec. 3, SE¼SE¼, SW¼SE¼, NW¼SE¼, NE¼SW¼, and NW¼SW¼;

Sec. 4, NE¼SE¼, NW¼SE¼, SW¼NE¼, SE¼NW¼, and SW¼NW¼;

Sec. 5, SE¼NE¼, NE¼NE¼, NW¼NE¼, NE¼NW¼, and NW¼NW¼;

Sec. 6, lot 1, NE¼NE¼, NW¼NE¼, and NE¼NW¼.

T. 28 N., R. 111 W.,

Sec. 31, lot 4 and SE¼SW¼.

T. 27 N., R. 112 W.,

Sec. 1, lot 5.

T. 28 N., R. 112 W.,

Sec. 25, lots 4 and 7, NW¼SE¼, and SE¼SW¼NE¼;

Sec. 23, lot 8, NE¼SW¼, SW¼NW¼, SE¼NW¼, and NE¼NW¼;

Sec. 14, SE¼SW¼, NE¼SW¼, SE¼NW¼, and SW¼NW¼;

Sec. 15, NW¼NW¼;

Sec. 9, SE¼SE¼, SW¼SE¼, NW¼SE¼, NE¼SW¼, NW¼SW¼, and SW¼NW¼;

Sec. 8, SE¼NE¼, SW¼NE¼, NW¼NE¼, NE¼NW¼, and NW¼NW¼;

Sec. 5, SW¼SW¼;

Sec. 6, lots 13 and 17, SE¼SE¼, SW¼SE¼, NW¼SE¼, and NE¼SW¼.

T. 28 N., R. 113 W.,

Sec. 1, lots 10 and 11, NW¼SE¼, NE¼SW¼, SE¼NW¼, and SW¼NW¼;

Sec. 2, lot 8, SE¼NE¼, SW¼NE¼, SE¼NW¼, and SW¼NW¼;

Sec. 3, lots 5 and 6.

T. 29 N., R. 113 W.,

Sec. 36, SE¼SW¼, NE¼SW¼, SE¼NW¼, NE¼NW¼, and NW¼NW¼;

Sec. 25, SW¼SW¼ and NW¼SW¼;

Sec. 26, NE¼SE¼, NW¼SE¼, NE¼SW¼, SE¼NW¼, SW¼NW¼, and NW¼NW¼;

Sec. 23, SW¼SW¼, NW¼SW¼, SW¼NW¼, and NW¼NW¼;

Sec. 14, SW¼SW¼, NW¼SW¼, and SW¼NW¼;

Sec. 15, NE¼SE¼, NW¼SE¼, NE¼SW¼, and NW¼SW¼;

Sec. 17, NE¼SE¼, NW¼SE¼, NE¼SW¼, SE¼SW¼, and SW¼SW¼;

Sec. 18, SE¼SE¼;

Sec. 19, NW¼NE¼ and NE¼NW¼.

T. 29 N., R. 114 W.,

Sec. 13, SE¼SE¼, NE¼SE¼, SE¼NE¼, SW¼NE¼, NW¼NE¼, NE¼NW¼, and NW¼NW¼;

Sec. 14, NE¼NE¼, NW¼NE¼, NE¼NW¼, SE¼NW¼, and SW¼NW¼.

The areas described aggregate approximately 1,128 acres.

The sweetening plant is located in an area designated as a marginal nonattainment zone for ozone within the Upper Green River Basin by the Environmental Protection Agency (EPA) in July 2012.

The EIS will take into consideration the use of the Department of Energy's west-wide energy corridors, best management practices and mitigation measures described in the Programmatic EIS, “Designation of Energy Corridors on Federal Land in the 11 Western States (DOE/EIS-0386)” Record of Decision signed January 14, 2009, and available at corridoreis.anl.gov/eis/guide/index.cfm.

Agencies with legal jurisdiction or special expertise will be invited to participate as cooperating agencies in preparation of the EIS. Federal, state and local agencies, along with tribes and other stakeholders that may be interested in or affected by the proposed project, are invited to participate in the scoping process and, if eligible, may request or be requested by the BLM to participate as a cooperating agency.

During the public scoping period, the BLM will solicit public comments on behalf of all cooperating agencies regarding issues, concerns, alternatives and opportunities that should be considered in the analysis of the proposed action. To date, the BLM has identified the following preliminary list of potential issues: Socioeconomic impacts; public health and safety; air quality and noise effects; soil disturbances and erosion; wildlife and vegetation; threatened, endangered, sensitive and candidate species (e.g., sage-grouse); cultural resources; paleontological resources; changes in visual quality and settings; and National Scenic and Historical Trails.

All comments must include a legible full name and address on the envelope, letter, fax, postcard or email. Documents pertinent to this proposal may be examined at the following BLM offices from 7:45 a.m. to 4:30 p.m., Monday through Friday, except holidays:

• BLM Rock Springs Field Office, 280 Highway 191 North, Rock Springs, Wyoming

• BLM Pinedale Field Office, 1625 West Pine Street, Pinedale, Wyoming

• BLM Rawlins Field Office, 1300 N. Third Street, Rawlins, Wyoming

• BLM Lander Field Office, 1335 Main Street, Lander, Wyoming

• BLM Casper Field Office, 2987 Prospector Drive, Casper, Wyoming

The BLM will use the NEPA process to identify and disclose impacts to the above resources or any additional issues or resources found through the scoping process. Further, the BLM will identify opportunities to apply a mitigation hierarchy strategy for on-site, regional, landscape-level conservation and management actions, which may include the option of compensatory mitigation. Mitigation strategies would be employed to achieve resource-based objectives commensurate with the scope of the impacts from the proposed project.

The BLM will use the NEPA public participation requirements to assist the agency in satisfying the public involvement requirements under Section 106 of the National Historic Preservation Act (NHPA) (16 U.S.C. 470f) as provided for in 36 CFR 800.2(d)(3). The information about historic and cultural resources that could potentially be affected by the project will assist the BLM in identifying and evaluating impacts to such resources in the context of both NEPA and Section 106 of the NHPA.

The BLM will consult with federally recognized Native American tribes on a government-to-government basis in accordance with Executive Order 13175 and other policies. Tribal concerns, including potential impacts on Tribal trust assets and cultural resources, will be given due consideration. In October 2013 and November 2013, the BLM facilitated three informational meetings with federally recognized Native American tribes with an interest in the general area of the proposed project.

In addition to Native American tribes, consultation with the U.S. Fish and Wildlife Service (USFWS), the National Park Service and the U.S. Army Corps of Engineers (USACE) will also need to occur. Consistent with the requirements of Section 7 of the Endangered Species Act, informal and/or formal consultation relative to the Riley Ridge to Natrona Project will be initiated with the USFWS. The USACE will assess the Riley Ridge to Natrona Project consistent with Section 404 of the Clean Water Act and Section 10 of the River and Harbors Act. Consultation with other agencies with jurisdiction over project components will be conducted as needed.

Comments on issues and potential impacts, or suggestions for additional or different alternatives, may be submitted in writing to the BLM at any public scoping meeting or through one of the methods listed in the ADDRESSES section. Before including your address, phone number, email address, or any other personal identifying information in your comment, you should be aware that your entire comment—including your personal identifying information—may be made publicly available at any time. While you may request in your comment that your personal identifying information be withheld from public review, we cannot guarantee that we will be able to do so.

Authority: 40 CFR 1501.7 and 43 CFR 1610.2.

Brenda V. Neuman,
Acting State Director.

[FR Doc. 2014-13395 Filed 6-6-14; 8:45 am]

BILLING CODE 4310-22-P